DEPARTMENT OF HEALTH AND HUMAN SERVICES

Office of the Secretary

Replacement of 2015 Statement of Organization, Functions, and Delegations of Authority; Office of the Assistant Secretary for Public Affairs

AGENCY: Office of the Assistant Secretary for Public Affairs, Office of the Secretary, Department of Health and Human Services (HHS).

ACTION: Notice.

SUMMARY: This notice provides an updated Statement of Organization, Functions, and Delegations of Authority for HHS' Office of the Assistant Secretary for Public Affairs, replacing the statement as last amended in 2015. The statement is republished in full.

SUPPLEMENTARY INFORMATION: Chapter AP continues to include three sections: AP.11 Mission, AP.10 Organization, and AP.20 Functions. ASPA's organizational structure formerly included six offices (A through F), three of which included suboffices, and now includes four offices (A through D), three of which include suboffices. Specifically, the following amendments were made, in addition to minor wording changes:

• A new office, titled “The Office of the Deputy Agency Chief FOIA Officer/Privacy Act Implementation Officer,” has been established at paragraph B in sections AP.10 and AP.20, with the FOIA/Privacy Act Division as its sole division.

• The Office of the Executive Officer/Deputy Chief FOIA Officer, which was formerly listed last (i.e., at the end of section AP.10 Organization, and at paragraph F in section AP.20 Functions) and formerly included the FOIA/Privacy Act Division as one of its three divisions, is now retitled “The Office of the Executive Officer” and located at paragraph C in sections AP.10 and AP.20, and now includes a new division, i.e., the Enterprise Data Analytics Division, instead of the FOIA/Privacy Act Division.

• The Office of the Principal Deputy Assistant Secretary, which was formerly listed second in section AP.10 and at paragraph B in section AP.20, and formerly included the Strategic Planning Division and the Speechwriting Division, is now located at paragraph D of sections AP.10 and AP.20 and includes these five suboffices: The Office of the Deputy Assistant Secretary for Public Health, the Office of the Deputy Assistant Secretary for Health Care, the Office of the Deputy Assistant Secretary for Human Services, the Broadcast Communications Division, and the Digital Communications Division.

• The previous organizational structure for The Office of the Assistant Secretary for Public Affairs, headed by the Assistant Secretary for Public Affairs (ASPA) will be replaced with the new the organizational structure listed within this notice.

• The departmental codes used to refer to [each organization] have been changed from the previous version to fit the current office structure and names.

Delete Chapter AP in its entirety and replace with the following:

Section AP.00 Mission

The ASPA serves as the Secretary's principal counsel on public affairs, leading efforts across the Department to promote transparency, accountability and access to critical public health and human services information to the American people. The Office of the Assistant Secretary for Public Affairs conducts national public affairs programs, provides centralized leadership and guidance for public affairs activities within HHS' Staff and Operating Divisions and regional offices, manages the Department's digital communications and administers the Freedom of Information and Privacy Act. The Division leads the planning, development and implementation of emergency incident communications strategies and activities for the Department. The ASPA reports directly to the HHS Secretary.

Section AP.10 Organization

The Office of the Assistant Secretary for Public Affairs, headed by the Assistant Secretary for Public Affairs (ASPA) who reports to the Secretary, supports public affairs efforts for three primary issue areas: Public Health, Human Services, and Health Care. ASPA consists of the following organizations:

A. The Office of the Assistant Secretary for Public Affairs/Agency Chief FOIA Officer (AP). The Office of the Assistant Secretary for Public Affairs (APA)—Provides executive leadership, policy direction, and management strategy for the Department's public affairs programs and activities. Counsels and acts for the Secretary and the Department in carrying out responsibilities under statutes, Presidential directives, and Secretarial orders for informing the general public, specialized audiences, HHS employees, and other Federal employees about the programs, policies, and services of the Department. Establishes and enforces policies and practices which produce an accurate, clear, efficient, consistent flow of information to the general public and other audiences about Departmental programs and activities, and management oversight of the Strategic Planning Division and national public education communications. Provides advice, counsel and information to the Secretary and other HHS policymakers to ensure that public affairs impact is considered in the establishment of Departmental policies or the conduct of its activities. Serves as the principal point of contact with senior White House officials regarding communications and press issues. Exercises professional leadership and provides functional management of public affairs activities throughout the Department to ensure that Secretarial priorities are followed, high quality standards are met, and cost-effective, non-duplicative communications products are developed which accurately and effectively inform its audiences. Serves as Secretarial surrogate throughout the public and private sector to both represent the views of the Administration and the Secretary, and to inform and educate various audiences. Ensures coordination among public affairs components. Manages public affairs issues and special activities that cut across Operating Division lines.

Serves as the HHS Agency Chief FOIA Officer (ACFO), pursuant to Executive Order 13392 (/executive-order/13392) and the Freedom of Information Act, as amended by Public Law 110-175 (https://www.govinfo.gov/link/plaw/110/public/175), 121 Stat. 2524, 5 U.S.C. 552(k) (https://www.govinfo.gov/link/uscode/5/552). In this capacity, the ASPA/ACFO is responsible for administering information access and privacy protection laws and HHS regulations implementing these laws to ensure Department wide consistency in information disclosure, confidentiality policies, practices and procedures. Such laws include the Freedom of Information Act and the Privacy Act, as well as the open meetings provisions of the Federal Advisory Committee Act, the Government in the Sunshine Act and the disclosure provisions of the Ethics in Government Act.

Provides Departmental, strategic, long-term vision and strong leadership on public health, health care, and human services initiatives. Collaborates with and has the authority to work across HHS OpDiv/StaffDivs and White House Press Offices. Leads implementation of strategic plans and coordinates earned, digital, and specialty media staff across the Department to boost impact, ensuring the right message is delivered to the right audience through the right channel. Advises the Secretary and Senior Staff on tactics, timing and level of investment in accordance with the Department's strategic priorities.

Provides proactive consultation and advice to HHS Operating Divisions and Staff Divisions (OpDiv/StaffDiv), including regional staff, regarding the dissemination of information on programs, policies, and initiatives; while ensuring the wide dissemination of accurate materials to the American public. Participates with the Assistant Secretary for Public Affairs the Principal Deputy Assistant Secretary and other ASPA staff in discussions with staff across the Department on cross-cutting issues regarding overall policies, planning, issues, concerns and activities and related health care programs. Works with OpDiv/StaffDivs to develop a long-term outreach strategy, coordinate in-house communications efforts, and ensure consistency with plain writing directives. Promotes full and open participation in the communications process and develops reports and recommendations, ensuring full review and vetting of drafts by appropriate staff between and among ASPA's customers and stakeholders at all levels. Researches, understands, and translates for a lay audience laws, policies, regulations and precedents applicable to public health, health care, and human services.

Oversees the document clearance process and the prioritization of rollouts while considering internal and external feedback. Coordinates and/or prepares briefings, memos, policy calendars and other information material for use by the Secretary, HHS, at Secretarial and senior staff briefings, the White House, and for congressional and other briefings.

B. The Office of the Deputy Agency Chief FOIA Officer/Privacy Act Implementation Officer (APC). Deputy Agency Chief FOIA Officer/Privacy Act Implementation Officer (APC)—serves as the designated Deputy Agency Chief Freedom of Information Act (FOIA) Officer (DACFO) and Privacy Act Implementation Officer (PA) and is delegated authority to execute the provisions of E.O. 13392, Improving Agency Disclosure of Information, 70 FR 75373 (Dec. 14, 2005), and the FOIA statute at 5 U.S.C. 552(k) and the provisions of the Privacy Act statute (5 U.S.C. 552a), as follows: Monitoring FOIA implementation throughout the department and keeping the Secretary and the Office of the General Counsel (OGC), HHS, and the U.S. Attorney General appropriately informed of HHS' performance in implementing FOIA; recommending to the Secretary adjustments to departmental practices, policies, personnel, and funding necessary to improve HHS implementation of FOIA; facilitating public understanding of the purposes of the statutory FOIA exemptions; establishing Departmental FOIA policies and providing training and technical assistance to the department's Operating Divisions (OpDivs); concurring in the delegation by an authorized HHS OpDiv FOIA Officer of the officer's authority to deny records or determine fees; serving as the review authority for appeals from a decision to deny a request for records or a refusal to waive fees made by the Director, FOIA/Privacy Act Division, ASPA, as well as ensuring consultation with OGC and providing review and concurrence on all departmental appeal decisions, including those on fees; general responsibility for Department-wide implementation and administration of the Privacy Act; including authority to decide appeals of refusals to amend or correct Privacy Act records of the Office of the Secretary (OS) (note that authority to decide Privacy Act amendment appeals can only be re-delegated one level below the ASPA, so cannot be further re-delegated; see limitation in September 25, 1987 delegation to ASPA from the Assistant Secretary for Management and Budget, predecessor to the Assistant Secretary for Administration); and serving as ASPA's designated senior level official on the HHS Data Integrity Board.

C. The Office of the Executive Officer (APA). Executive Officer (APA)—Coordinates ASPA's day-to-day operations, overseeing management operations and policy, workforce plans and other human resources activities, and general administrative support including information technology requirements. Oversees the formulation and execution of ASPA's annual budgets and financial operating plans. Ensures that ASPA effectively integrates its performance metrics and budget processes, in order to support informed decision-making related to funding constraints and program requirements and outcomes.

Supports the development and implementation of management strategies, business processes, and standard operating procedures that fully support the attainment of ASPA program goals and mission critical initiatives.

C1. Business Operations Division (APA1). Business Operations Division (APA1)—Directs ASPA budget formulation, execution and financial management; incorporating a results-oriented, program quality, and cost effectiveness focus into assessing and managing ASPA's resource requirements and developing and executing integrated performance-based budgets. Oversees and manages ASPA contracts and procurements, physical property, projects, governance, and information technology initiatives and requirements. Coordinates travel operations support, reporting, and auditing.

Serves as ASPA's liaison to the Office of the Assistant Secretary for Financial Resources (ASFR) for budget and finance matters and the Office of the Assistant Secretary for Administration (ASA) for facilities, property accountability, and contract implementation and oversight matters. Additionally serves as the ASPA point of contact for Departmental financial, and acquisition management initiatives and for budget and performance integration inquiries from OMB and Congress.

C2. Administrative Operations Division (APA2). Administrative Operations Division (APA2)—Directs ASPA's human capital planning, human resources (HR) performance management, and other departmental HR policy and program requirements. Serves as ASPA's internal consultant and source of expert technical assistance on organizational development and human capital management (e.g., staffing and workforce analysis, transition and succession planning, awards and special honors programs), and as liaison to the Office of the Secretary (OS) Office of Human Resources (OHR) on sensitive personnel issues (e.g., EEO, labor and management relations, performance and conduct-based actions). Coordinates with OHR concerning all ASPA recruitment and personnel actions and manages professional staff development. Administers ASPA's Ethics Program and serves as liaison regarding personnel security initiatives and requirements.

C3. Data Analytics Division (APA3). Data Analytics Division (APA3)—Responsible for providing enterprise data analytics support to portions of the Department and producing a variety of custom analyses and reports, including, but not limited to, analytics implementation audits, top-task analyses, trend analyses, key performance indicators business analytics, and regression analyses with predictive expansion for ASPA and OpDiv/StaffDivs. In addition, the Data Analytics Division analyzes operational data, web content, engagement, and social media data, as well as data sources from external offices made available on a per project basis.

D. The Office of the Principal Deputy Assistant Secretary (APB). The Office of the Principal Deputy Assistant Secretary for Public Affairs (APB)—Responsible for developing effective strategies to publicize Departmental policies, goals and accomplishments, activities related to the Department's communications services, public affairs policy analysis, and national public education communications, and direction and oversight to the ASPA Public Health Portfolio, ASPA Health Care Portfolio, ASPA Human Services Portfolio, Online Communications, Speechwriting Division, Broadcast Communications Division (BCD), and Digital Communications Division (DCD). Provides advice and assistance on all public affairs matters, in consultation with the Assistant Secretary for Public Affairs; coordinates with ASPA's Public Health, Health Care, and Human Services Portfolios in providing prompt response to media and public inquiries, and in helping the Assistant Secretary for Public Affairs generate a strategic focus for stories and other information products that the Department develops and wishes to highlight. Manages or coordinates the conduct of high priority Departmental media campaigns and information programs. Acts as the internal and external liaison, e.g., HHS OpDiv/StaffDivs programs and public affairs offices, private sector organizations, other Federal agencies, including OMB and the Office of Public Liaison at the White House. Initiates, designs and effects outreach programs for all organizations, associations and individuals concerned with the broad range of policies, programs and issues of the Department. Performs special assignments which involve and cut across Department programs and activities to achieve broadly defined public affairs management and program objectives. Interacts with internal and external organizations, groups and individuals to secure and provide information concerning matters affecting HHS policy, interests, and initiatives. Represents the Assistant Secretary for Public Affairs in conveying official viewpoints and policy considerations of the Department and the Administration. Serves as the principal resource with the Department for reviewing and editing written materials reflecting the views of the Secretary, Deputy Secretary, and Chief of Staff. Prepares speeches, statements, articles, and related material for the Secretary, Deputy Secretary, and Chief of Staff and other top Departmental officials. Researches and prepares Op Ed pieces, features, articles, and stories for the media.

D1. The Office of the Deputy Assistant Secretary for Public Health (APB1). The Office of the Deputy Assistant Secretary for Public Health (APB1)—The Public Health portfolio works with the Centers for Disease Control and Prevention, Agency for Toxic Substances and Disease Registry, U.S. Food and Drug Administration, National Institutes for Health, Office of Global Affairs, Office of the Assistant Secretary for Emergency Preparedness and Response, and Assistant Secretary for Planning and Evaluation/Public Health issues and offices of the Assistant Secretary for Health and the Surgeon General on initiatives and strategies to promote public health, improve health outcomes and national public education communications, prevent disease and outbreak, and accelerate scientific discovery.

D2. The Office of the Deputy Assistant Secretary for Health Care (APB2). The Office of the Deputy Assistant Secretary for Health Care (APB2)—The Healthcare portfolio works to advance a healthcare system that delivers high-quality, affordable care to all Americans. The team works with the Agency for Healthcare Research and Quality, Office of the National Coordinator for Health Information Technology, Health Resources and Services Administration, Centers for Medicare & Medicaid Services, and Assistant Secretary for Planning and Evaluation/Health Care issues to improve access, quality, safety, efficiency and effectiveness of the nation's healthcare and national public education communications.

D3. The Office of the Deputy Assistant Secretary for Human Services (APB3). The Office of the Deputy Assistant Secretary for Human Services (APB3)— The Human Services portfolio helps improve and promote national public education communications and Americans of all ages and backgrounds live full, productive lives: kids getting a “Head Start” through early childhood education, families transitioning out of poverty to economic independence, teens and adults recovering from mental illness and addiction, and seniors participating in communities that value their contributions. These and other human service programs are carried out by the Administration for Children and Families, Administration for Community Living, Indian Health Service, Office for Civil Rights, Substance Abuse and Mental Health Services Administration, Office of the Chief Technology Officer, Center for Faith-Based and Neighborhood Partnerships, Office of the Chief Information Officer and Assistant Secretary for Planning and Evaluation/Human Services issues.

D4. Broadcast Communications Division (APB4). Broadcast Communications Division—BCD (APB4)—Collaborates with subject matter experts and key stakeholders to create useful and cost effective video products that support Departmental goals. Provides a wide range of video production, A/V, live streaming, and on-demand services. Operates the HHS studio and coordinates activities with other HHS studios as required. Under the direction of the ASPA, supports key initiatives for the Secretary and all HHS Staff and Operating Divisions by developing and implementing media campaigns and special projects. Acts as liaison to broadcast organizations. Supports A/V services in the Studio, Humphrey Auditorium, Great Hall, and any location that require services.

D5. Digital Communications Division (APB5). Digital Communications Division—DCD (APB5)—Leads the development and review of HHS Web content, social media, and supporting technologies. Recommends and implements digital (including Web) information policy, standards, guidance, and tools for the Department. Assesses the content and usability of all proposed Department-wide and Office of the Secretary (OS)-level websites to ensure they are consistent with Departmental policies and goals. Manages the daily operations of the main HHS/OS public website (HHS.gov) and associated social media; internal communications, the Department's priority websites and several cross-federal topic websites, such as FoodSafety.gov, StopBullying.gov, betobaccofree.hhs.gov Secretary-level web pages; and the HHS intranet. Runs the Department's user experience (UE) program, responsible for Section 508 (accessibility) compliance across all Departmental digital communications platforms, including Web, and national public education communications.

Cheryl R. Campbell,
Assistant Secretary for Administration.

[FR Doc. 2023-14733 Filed 7-11-23; 8:45 am]

BILLING CODE 4150-25-P